DEPARTMENT OF DEFENSE

Department of the Air Force

Notice of Intent To Grant an Exclusive Patent License

AGENCY: Air Force Materiel Command, Department of the Air Force, DoD.

ACTION: Notice of intent.

SUMMARY: Pursuant to the Bayh-Dole Act and implementing regulations, the Department of the Air Force hereby gives notice of its intent to grant an exclusive patent license agreement to Ohio State Innovation Foundation, a non-profit, duly organized, validly existing, and in good standing in the State of Ohio, having a place of business at 1524 North High Street, Columbus, OH 43201, in any right, title and interest the Air Force has in: Air Force Disclosure Docket No. AFD 1677, entitled “Unmanned Aerial System Stinger-Suspended Crop Health Sensing,” by Shearer et al., and Air Force Disclosure Docket No. AFD 1679, entitled “Remote Sensing Image Processing Algorithm for Assessing Plant Population at Emergence,” by Wolters, et al.

DATES: Written objections must be filed no later than fifteen (15) calendar days after the date of publication of this Notice.

ADDRESSES: Submit written objections to the Air Force Materiel Command Law Office, AFMCLO/JAZ, 2240 B Street, Room 260, Wright-Patterson AFB, OH 45433-7109; Facsimile: (937) 255-3733; or Email: afmclo.jaz.tech@us.af.mil. Include Docket No. AFD 1677 & 1679 in the subject line of the message.

FOR FURTHER INFORMATION CONTACT: Air Force Materiel Command Law Office, AFMCLO/JAZ, 2240 B Street, Rm. 260, Wright-Patterson AFB, OH 45433-7109; Facsimile: (937) 255-3733; Email: afmclo.jaz.tech@us.af.mil.

SUPPLEMENTARY INFORMATION:

Authority: 35 U.S.C. 209; 37 CFR 404.

The Department of the Air Force intends to grant the [exclusive] [partially exclusive] patent license agreement for the invention described in:

—Air Force Disclosure Docket No. AFD 1677, entitled “Unmanned Aerial System Stinger-Suspended Crop Health Sensing,” by Shearer et al.

—Air Force Disclosure Docket No. AFD 1679, entitled “Remote Sensing Image Processing Algorithm for Assessing Plant Population at Emergence,” by Wolters, et al.

The Ohio State University is a joint owner of the aforementioned inventions and the Air Force intends to license its rights to enable consolidation of such rights for future license agreements.

The Department of the Air Force may grant the prospective license unless a timely objection is received that sufficiently shows the grant of the license would be inconsistent with the Bayh-Dole Act or implementing regulations. A competing application for a patent license agreement, completed in compliance with 37 CFR 404.8 and received by the Air Force within the period for timely objections, will be treated as an objection and may be considered as an alternative to the proposed license.

Henry Williams,
Acting Air Force Federal Register Liaison Officer.

[FR Doc. 2017-22959 Filed 10-20-17; 8:45 am]

BILLING CODE 5001-10-P